DEPARTMENT OF COMMERCE

National Oceanic and Atmospheric Administration

Proposed Information Collection; Comment Request; Haddock Bycatch Notification of Landing

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 22, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Brian R. Hooker, Fishery Policy Analyst, Sustainable Fisheries Division, One Blackburn Drive, Gloucester, MA 01930, 978-281-9220.

SUPPLEMENTARY INFORMATION:

I. Abstract

The National Marine Fisheries Service (NMFS) Northeast Region manages Northeast (NE) multispecies and herring fisheries of the Exclusive Economic Zone (EEZ) of the Northeastern United States through the NE Multispecies and Herring Fishery Management Plans (FMPs). The New England Fishery Management Council prepared the FMPs pursuant to the Magnuson-Stevens Fishery Conservation and Management Act (Magnuson Act). The regulations implementing the FMPs are specified under 50 CFR 648.80 and 648.200

The recordkeeping and reporting requirements at § 648.80(d)(9) and (e)(8) form the basis for this collection of information. NMFS Northeast Region requests information from Category 1 herring vessel owners/operators in order to facilitate enforcement of haddock possession limits and monitor the bycatch of haddock in the herring fishery. The failure to collect information on Category 1 herring vessel activity or collecting it less frequently could undermine efforts to facilitate enforcement. This information is important in determining the impact of herring vessel operations on groundfish fishing mortality. The information is a prior notification of landing submitted through a vessel monitoring system (VMS). The cost of operation and installation of the VMS for Category 1 herring vessels is accounted for under OMB Control Number 0648-0404. This information, upon receipt, results in an increasingly more efficient and accurate database for management and monitoring of fisheries of the Northeastern U.S. EEZ.

II. Method of Collection

Information is collected electronically through the vessel's VMS.

III. Data

OMB Number: 0648-0525.

Form Number: None.

Type of Review: Regular submission.

Affected Public: Business or other for-profit organizations.

Estimated Number of Respondents: 105.

Estimated Time Per Response: 5 minutes.

Estimated Total Annual Burden Hours: 56.

Estimated Total Annual Cost to Public: $335.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 16, 2005.
Gwellnar Banks,
Management Analyst, Office of the Chief Information Officer.

[FR Doc. 05-12263 Filed 6-21-05; 8:45 am]

BILLING CODE 3510-22-P